DEPARTMENT OF THE INTERIOR

Bureau of Indian Affairs

Bureau of Land Management

[LLNMF01000.L13100000.PP0000; AANNN04650.A0R9044040.999900.201A21000DD]

Notice of Availability of the Farmington Mancos-Gallup Resource Plan Amendment and Draft Environmental Impact Statement, New Mexico

AGENCY: Bureau of Land Management, Interior; and Bureau of Indian Affairs, Interior.

ACTION: Notice of Availability.

SUMMARY: In compliance with the National Environmental Policy Act of 1969, as amended (NEPA), and the Federal Land Policy and Management Act of 1976, as amended (FLPMA), the Bureau of Land Management (BLM) Farmington Field Office, Farmington, New Mexico, and Bureau of Indian Affairs (BIA) Navajo Regional Office, Gallup, New Mexico, have prepared a Draft Resource Management Plan Amendment (RMPA) and associated Environmental Impact Statement (EIS). This notice announces a 90-day public review period of the Draft RMPA/EIS, and that the BLM and BIA will hold public meetings to solicit comments.

DATES: To ensure that comments will be considered, the BLM and BIA must receive written comments on the Draft RMPA/EIS within May 28, 2020 that the Environmental Protection Agency publishes its Notice of Availability for the Draft RMPA/EIS in the Federal Register. All information on the public comment period, including how to submit comments and when they are due, will be included on the project website as information is made available. The BLM and BIA will announce future public meetings, hearings, or other public participation activities at least 15 days in advance through public notices, media releases, and/or direct mailings.

ADDRESSES: You may submit comments related to the Draft RMPA/EIS through the following methods:

Project website: https://go.usa.gov/xdrjD;

Email: blm_nm_ffo_rmp@blm.gov;

Fax: 505-564-7608, Attn.: Jillian Aragon, Project Manager; or

Mail: Bureau of Land Management, Farmington Field Office, Attn.: Project Manager, 6251 College Blvd., Suite A, Farmington, New Mexico 87402; or BIA Navajo Regional Office, Attn.: Robert Begay, P.O. Box 1060, Gallup, New Mexico 87301.

Copies of the Draft RMPA/EIS are available from the BLM and the BIA at the following addresses: BLM Farmington Field Office, 6251 College Blvd., Suite A, Farmington, New Mexico 87402; BIA Navajo Regional Office, 301 West Hill, Gallup, New Mexico 87301; BIA Eastern Agency Office, 222 Chaco Blvd., Crownpoint, NM 87313; Pueblo Pintado Chapter House, Navajo Route 9 HCR 79, Cuba, NM 87013; Ojo Encino Chapter House, HCR 79, Ojo Encino, NM 87013; Counselor Chapter House 6828 Highway 44, Counselor, NM 87018; Nageezi Chapter House, 1153 US-550, Nageezi, NM 87037; Lake Valley Chapter House, 7750 NM 371, Crownpoint, NM 87313; 536 County Road 7150, Bloomfield, NM 87413; Upper Fruitland Chapter House, Fruitland, NM; San Juan Chapter House, Lower Waterflow, NM; Hogback Chapter House, Shiprock, NM; Burnham Chapter House, Newcomb, NM; White Rock Chapter House, Crownpoint, NM; Becenti Chapter House, Crownpoint, NM; Whitehorse Lake Chapter House, Cuba, NM; Torreon Chapter House, Cuba, NM; Navajo Nation Library, Hwy. 264 Loop Road, Window Rock, AZ 86515; Farmington Public Library, 2101 Farmington Ave, Farmington, NM 87401; and BLM New Mexico State Office, 301 Dinosaur Trail, Santa Fe, New Mexico 87508.

FOR FURTHER INFORMATION CONTACT: Jillian Aragon, BLM Project Manager; telephone: 505-564-7722; address: 6251 College Blvd., Suite A, Farmington, New Mexico 87402; or contact Robert Begay, BIA Project Manager; telephone 505-863-8515; address P.O. Box 1060; Gallup, New Mexico 87301; or email both at: blm_nm_ffo_rmp@blm.gov. Persons who use a telecommunications device for the deaf (TDD) may call the Federal Relay Service (FRS) at 1-800-877-8339 to contact the above individual during normal business hours. The FRS is available 24 hours a day, 7 days a week, to leave a message or question with the above individuals. You will receive a reply during normal business hours.

SUPPLEMENTARY INFORMATION: This document evaluates alternatives for updating management of BLM-managed lands and minerals in the Farmington Field Office, considering new technologies for oil and gas extraction. It also evaluates alternatives and issues related to the BIA's authority over mineral leasing and associated activity decisions on Navajo Tribal Trust lands and Navajo Indian allotments (hereafter referred to as Navajo Trust and Navajo Indian allotments, respectively). The Draft RMPA/EIS has been developed in order to analyze the impacts of additional development in what was previously considered a fully developed oil and gas play in the San Juan Basin in northwestern New Mexico. The Mancos Shale/Gallup Formation was analyzed in the 2002 Reasonably Foreseeable Development (RFD) Scenario and current Farmington Field Office 2003 RMP/EIS. Subsequent improvements and innovations in horizontal drilling technology and multi-stage hydraulic fracturing have enhanced the economics of developing this stratigraphic horizon. With favorable oil prices, the oil play in the southern part of the Farmington Field Office boundary has drawn considerable interest. As full-field development occurs, especially in the shale oil play, additional impacts may occur. This would require an EIS-level plan amendment and revision of the RFD regarding the Mancos Shale/Gallup Formation. Because the BLM is preparing an RMP amendment and not a revision, not all decisions from the 2003 RMP will be revisited. On February 25, 2014, the BLM released an initial Notice of Intent to prepare the RMPA/EIS. In 2016, the BIA became a co-lead agency. This was because of the two agencies' shared concerns and management responsibilities related to oil and gas development on Navajo Tribal trust and Navajo Indian allotments in the area of the RMPA/EIS.

The BIA has the responsibility to manage fluid and solid mineral leasing for Indian mineral owners. The Indian mineral owners include the Navajo Nation on Navajo Tribal trust lands and individual Navajo allottees on Navajo individual Indian allotments. The Notice of Intent announcing that the BIA had joined the project was published in the Federal Register on October 21, 2016 (81 FR 72819).

The planning area spans portions of San Juan, Rio Arriba, McKinley, and Sandoval counties in New Mexico. It encompasses approximately 4,189,500 acres of land, including approximately 675,400 acres of Navajo Trust surface, 1,316,200 acres of BLM-managed land, and 210,100 acres of Navajo Indian allotments, across 17 Navajo Nation chapters.

The purpose of the public comment process is to receive public input on the Draft RMPA/EIS. The BLM's preliminary planning criteria identified in the February 25, 2014, Federal Register (79 FR 10548) notice and the BIA's preliminary planning criteria identified in the October 21, 2016, Federal Register (81 FR 72819) notice are hereby incorporated by reference.

The BLM and BIA planning teams developed four preliminary planning issues to be addressed in the RMPA, including oil and gas development; lands and realty; BLM-managed lands with wilderness characteristics; and vegetation. The agencies selected these issues based on broad concerns or controversies related to conditions, trends, needs, and existing and potential uses of planning area lands. The agencies also identified issues during a review of current land management documents, including the 2003 Farmington RMP, and associated plan amendments and applicable Navajo Nation chapter house land use plans. These planning issues address each agency's purpose of and need for the RMPA/EIS and reflect the range of decisions to be analyzed in the RMPA/EIS. Land use planning and NEPA regulations require the BLM and BIA to formulate a reasonable range of alternatives to consider different management scenarios and different means of resolving resource or resource use conflicts. Established planning criteria, as outline in 43 CFR part 1610, guide the alternatives development process. This pursuit provides the BLM, BIA, and the public with an understanding of the various ways in which challenges surrounding resources and resource uses might be resolved. This Draft RMPA/EIS offers the BLM State Director and the BIA Navajo Regional Director a reasonable range of alternatives from which to make informed decisions. Both agencies developed one no action alternative and four action alternatives. The action alternatives for each agency were designed to accomplish the following:

• Address the four planning issues;

• Fulfill the purpose of and need for the RMPA/EIS;

• Meet the BLM's multiple use mandates of FLPMA (43 U.S.C., Section 1716);

• Achieve the BIA's mission to enhance quality of life, promote economic opportunity, and protect and improve trust assets.

The range of alternatives for each agency is as follows:

BLM

(1) BLM No Action Alternative—Continue 2003 RMP management direction;

(2) BLM Alternative A—Focus on managing and enhancing habitats in the BLM decision area;

(3) BLM Alternative B—Emphasize the preservation and protection of the Chacoan and cultural landscapes unique to northern New Mexico;

(4) BLM Alternative C—Focus on a strategy that balances community needs and development, while enhancing land health; and

(5) BLM Alternative D—Focus on maximizing resources that target economic outcomes, while sustaining land health.

BIA

(1) BIA No Action Alternative—Continue current management of leasing practices;

(2) BIA Alternative A—Focus on protecting and enhancing natural environments, while emphasizing the protection of sensitive wildlife areas and ecological resources;

(3) BIA Alternative B—Emphasize the preservation and protection of the cultural and natural landscapes unique to northern New Mexico;

(4) BIA Alternative C—Focus on allowing development to occur in harmony with the traditional, historical, socioeconomic, and cultural lifeways of the planning area; and

(5) BIA Alternative D—Focus on making the most of resources that target economic outcomes, while protecting land health.

The BLM and BIA have provided extensive opportunities for meaningful and substantive input and comments when preparing this Draft RMPA/EIS. Those invited to participate in the process include the public, non-governmental organizations, other Federal agencies, Tribal members, and state, local, and Tribal governments.

Public involvement for this Draft RMPA/EIS has consisted of the following:

• An initial BLM public scoping comment period from February 25 to May 28, 2014;

• A second public scoping period focused on BIA issues from October 21, 2016, to February 26, 2017;

• Public outreach via bulletins, newspaper announcements, public meetings, and the project website;

• Collaboration with Federal, state, local, and Tribal governments and cooperating agencies; and

• Public review of and comment on the Draft RMPA/EIS.

The BLM and BIA are required to consult Indian Tribes, as applicable, on a government-to-government basis, in accordance with Executive Order 13175 and other policies. Tribal and individual Indian allottee concerns, including impacts on Indian trust assets and potential impacts on cultural resources in the planning area, will continue to be given due consideration.

Federal, state, and local agencies and individual Indian allottees, Tribes, and other stakeholders that may be interested in or affected by the proposed action being evaluated are invited to participate in the public comment process. These entities may request, or be requested by the BIA and BLM, to participate in the development of the environmental analysis as cooperating agencies, if eligible. Additionally, the BLM and BIA will continue to consult with the cooperating agencies, as appropriate.

You may submit comments on the Draft RMPA/EIS in writing at any public comment meeting, or by using one of the methods listed in the ADDRESSES section above. To be included in the analysis, all comments must be received by the date set forth in the DATES section above and must be submitted using one of the methods listed in the ADDRESSES section above. Please include your name, return address, and the caption “Draft EIS Comments, Farmington Mancos-Gallup RMPA/EIS” on the first page of your written comments.

Written comments, including names and addresses of respondents, will be available for public review at one of the addresses listed in the ADDRESSES section above, during regular business hours, 8 a.m. to 4:30 p.m., Monday through Friday, except holidays.

Before including your address, telephone number, email address, or other personal identifying information in your comment, be aware that your entire comment—including your personal identifying information—may be made publicly available at any time. You can ask us in your comment to withhold your personal identifying information from public review, but we cannot guarantee that we will be able to do so.

Authority: 40 CFR 1506.6, 40 CFR 1506.10, 43 CFR 1610.2

Timothy R. Spisak,
BLM New Mexico State Director.
Bartholomew Stevens,
BIA Navajo Regional Director.

[FR Doc. 2020-04111 Filed 2-27-20; 8:45 am]

BILLING CODE 4310-FB-P